DEPARTMENT OF LABOR

Employment and Training Administration

[TA-W-71,903]

JP Morgan Chase and Company; JP Morgan Investment Banking, Global Corporate Financial Operations, New York, NY; Notice of Negative Determination on Reconsideration

By application dated October 12, 2009, a petitioner requested administrative reconsideration of the Department's negative determination regarding eligibility to apply for Trade Adjustment Assistance (TAA) applicable to workers and former workers of JP Morgan Chase and Company, JP Morgan Investment Banking, Global Corporate Financial Operations, New York, New York. The Department's Notice of Affirmative Determination Regarding Application for Reconsideration was signed on October 27, 2009, and published in the Federal Register on November 12, 2009 (74 FR 58315).

The investigation resulted in a negative determination based on the finding that workers' separations or threat of separations were not related to an increase in imports or shift/acquisition of business research and clerical support operations to/from a foreign country. The subject firm did not import services like or directly competitive with services provided by workers of the subject firm and did not shift provision of these services abroad.

In the request for reconsideration the petitioner alleged that workers worked for JP Morgan Chase and Company, Global Corporate Financial Operations (GCFO), Presentation Production Services (PPS). The petitioner further alleged that JP Morgan operates facilities in Mumbai and Bangalore and that JP Morgan shifted provision of services from the subject firm to India. Specifically, the petitioner alleged that the bankers of JP Morgan were instructed to bypass the PPS offices in the United States and send work directly to JP Morgan facilities abroad.

The Department contacted company officials of JP Morgan Chase to address the above allegations. The company officials confirmed that JP Morgan Chase has subsidiaries in India and Argentina which provide additional support services to bankers of JP Morgan Chase. The company officials further stated that bankers were not instructed to bypass PPS but utilize centers in Argentina and India as an option if the local service was not available. The officials confirmed that JP Morgan Chase did not shift provision of services from the subject firm to a foreign location.

The Department requested employment information for the foreign facilities of JP Morgan Chase that perform services like or directly competitive with services provided by workers of the subject firm. The data revealed that employment at these facilities declined in 2008 and 2009.

The investigation revealed that the reduction in business volume caused the subject firm's reorganization and that the layoffs at the subject facility was not related to increased imports of business research, clerical support operations or presentation production services and there was no shift of these services abroad during the period under investigation.

The petitioner further alleged that workers of the subject firm provided services to bankers of JP Morgan Chase, who in turn, provided services to external clients.

The company official verified that PPS is an internal service provider only and that the workers of the subject firm did not provide services directly to external clients and vendors.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After reconsideration, I affirm the original notice of negative determination of eligibility to apply for worker adjustment assistance for workers and former workers of JP Morgan Chase and Company, JP Morgan Investment Banking, Global Corporate Financial Operation, New York, New York.

Signed at Washington, DC, this 7th day of January 2010.
Elliott S. Kushner,
Certifying Officer, Division of Trade Adjustment Assistance.

[FR Doc. 2010-893 Filed 1-19-10; 8:45 am]

BILLING CODE 4510-FN-P